FEDERAL RESERVE SYSTEM

Change in Bank Control Notices; Acquisition of Shares of Bank or Bank Holding Companies

The notificants listed below have applied under the Change in Bank Control Act (12 U.S.C. 1817(j)) and § 225.41 of the Board’s Regulation Y (12 CFR 225.41) to acquire a bank or bank holding company. The factors that are considered in acting on the notices are set forth in paragraph 7 of the Act (12 U.S.C. 1817(j)(7)).

The notices are available for immediate inspection at the Federal Reserve Bank indicated. The notices also will be available for inspection at the office of the Board of Governors. Interested persons may express their views in writing to the Reserve Bank indicated for that notice or to the offices of the Board of Governors. Comments must be received not later than July 25, 2005.

A. Federal Reserve Bank of New York (Jay Bernstein, Bank Supervision Officer) 33 Liberty Street, New York, New York 10045-0001:

1. H.T. Clark I Family (Limited Partnership) and Harold T. Clark, Jr. (general partner), both of Utica, New York; to acquire voting shares of Adirondack Bancorp, Utica, New York, and thereby indirectly acquire voting shares of Adirondack Bank, Utica, New York.

B. Federal Reserve Bank of St. Louis (Glenda Wilson, Community Affairs Officer) 411 Locust Street, St. Louis, Missouri 63166-2034:

1. Charles Hardcastle, Bowling Green, Kentucky; to acquire voting shares of Citizens First Corporation, Bowling Green, Kentucky and thereby indirectly acquire Citizens First Bank, Inc., Bowling Green, Kentucky.

Board of Governors of the Federal Reserve System, July 5, 2005.
Robert deV. Frierson,
Deputy Secretary of the Board.

[FR Doc. 05-13519 Filed 7-8-05; 8:45 am]

BILLING CODE 6210-01-S